DEPARTMENT OF COMMERCE

Foreign-Trade Zones Board

[S-233-2023]

Foreign-Trade Zone 24; Application for Subzone; GMA Accessories DBA Capelli New York; Pittston, Pennsylvania

An application has been submitted to the Foreign-Trade Zones (FTZ) Board by the Eastern Distribution Center, Inc., grantee of FTZ 24, requesting subzone status for the facility of GMA Accessories DBA Capelli New York (Capelli), located in Pittston, Pennsylvania. The application was submitted pursuant to the provisions of the Foreign-Trade Zones Act, as amended (19 U.S.C. 81a-81u), and the regulations of the FTZ Board (15 CFR part 400). It was formally docketed on December 8, 2023.

The proposed subzone (28.08 acres) is located at 901 Sathers Drive, Pittston, Pennsylvania. No authorization for production activity has been requested at this time. The proposed subzone would be subject to the existing activation limit of FTZ 24.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is January 23, 2024. Rebuttal comments in response to material submitted during the foregoing period may be submitted during the subsequent 15-day period to February 7, 2024.

A copy of the application will be available for public inspection in the “Online FTZ Information Section” section of the FTZ Board's website, which is accessible via www.trade.gov/ftz.

For further information, contact Juanita Chen at juanita.chen@trade.gov.

Dated: December 11, 2023.
Elizabeth Whiteman,
Executive Secretary.

[FR Doc. 2023-27483 Filed 12-13-23; 8:45 am]

BILLING CODE 3510-DS-P